ENVIRONMENTAL PROTECTION AGENCY

40 CFR Part 52

[EPA-R01-OAR-2005-ME-0003; A-1-FRL-8008-8]

Approval and Promulgation of Air Quality Implementation Plans; Maine; Architectural and Industrial Maintenance (AIM) Coatings Regulation

AGENCY: Environmental Protection Agency (EPA).

ACTION: Proposed rule.

SUMMARY: EPA is proposing to approve a State Implementation Plan (SIP) revision submitted by the State of Maine. This revision establishes requirements to reduce volatile organic compound (VOC) emissions from architectural and industrial maintenance coatings. The intended effect of this action is to propose approval of these requirements. This action is being taken under the Clean Air Act (CAA).

DATES: Written comments must be received on or before January 17, 2006.

ADDRESSES: Submit your comments, identified by Regional Material in EDocket (RME) ID Number R01-OAR-2005-ME-0003 by one of the following methods:

1. Federal eRulemaking Portal: http://www.regulations.gov. Follow the on-line instructions for submitting comments.

2. Agency Web site: http://docket.epa.gov/rmepub/ Regional Material in EDocket (RME), EPA's electronic public docket and comment system, will be replaced by an enhanced federal-wide electronic docket management and comment system located at http://www.regulations.gov. On November 28, 2005, when that occurs, you will be redirected to that site to access the docket EPA-R01-OAR-2005-ME-0003 and submit comments. Follow the on-line instructions for submitting comments.

3. E-mail: conroy.dave@epa.gov.

4. Fax: (617) 918-0661.

5. Mail: “RME ID Number R01-OAR-2005-ME-0003,” David Conroy, Chief, Air Programs Branch, U.S. Environmental Protection Agency, EPA New England Regional Office, One Congress Street, Suite 1100 (mail code CAQ), Boston, MA 02114-2023.

6. Hand Delivery or Courier. Deliver your comments to: David Conroy, Chief, Air Programs Branch, Office of Ecosystem Protection, U.S. Environmental Protection Agency, EPA New England Regional Office, One Congress Street, 11th floor, (CAQ), Boston, MA 02114-2023. Such deliveries are only accepted during the Regional Office's normal hours of operation. The Regional Office's official hours of business are Monday through Friday, 8:30 to 4:30, excluding Federal holidays.

Instructions: Direct your comments to Regional Material in EDocket (RME) ID Number R01-OAR-2005-ME-0003. EPA's policy is that all comments received will be included in the public docket without change and may be made available online at http://docket.epa.gov/rmepub/, including any personal information provided, unless the comment includes information claimed to be Confidential Business Information (CBI) or other information whose disclosure is restricted by statute. Do not submit information that you consider to be CBI or otherwise protected through Regional Material in EDocket (RME), regulations.gov, or e-mail. The EPA RME Web site and the federal regulations.gov Web site are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the Regional Material in EDocket (RME) index at http://docket.epa.gov/rmepub/. Although listed in the index, some information is not publicly available, i.e., CBI or other information whose disclosure is restricted by statute. Certain other material, such as copyrighted material, is not placed on the Internet and will be publicly available only in hard copy form. Publicly available docket materials are available either electronically in RME or in hard copy at Office of Ecosystem Protection, U.S. Environmental Protection Agency, EPA New England Regional Office, One Congress Street, Suite 1100, Boston, MA. EPA requests that if at all possible, you contact the contact listed in the FOR FURTHER INFORMATION CONTACT section to schedule your inspection. The Regional Office's official hours of business are Monday through Friday, 8:30 to 4:30, excluding Federal holidays.

FOR FURTHER INFORMATION CONTACT: Anne Arnold, Air Quality Planning Unit, U.S. Environmental Protection Agency, EPA New England Regional Office, One Congress Street, Suite 1100 (CAQ), Boston, MA 02114-2023, (617) 918-1047, arnold.anne@epa.gov.

SUPPLEMENTARY INFORMATION:

I. General Information

A. How can I get copies of this document and other related information?

In addition to the publicly available docket materials available for inspection electronically in Regional Material in EDocket, and the hard copy available at the Regional Office, which are identified in the ADDRESSES section above, copies of the state submittal and EPA's technical support document are also available for public inspection during normal business hours, by appointment at the Bureau of Air Quality Control, Department of Environmental Protection, First Floor of the Tyson Building, Augusta Mental Health Institute Complex, Augusta, ME 04333-0017.

B. What should I consider as I prepare my comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate regional file/rulemaking identification number in the subject line on the first page of your response. It would also be helpful if you provided the name, date, and Federal Register citation related to your comments.

II. Rulemaking Information

This section is organized as follows:

A. What action is EPA taking?

B. What are the requirements of Maine's new regulation?

C. Why is EPA proposing to approve this regulation?

D. What is the process for EPA to approve this SIP revision?

A. What action is EPA taking?

EPA is proposing to approve Maine's Chapter 151, “Architectural and Industrial Maintenance (AIM) Coatings,” and to incorporate this regulation into the Maine SIP.

B. What are the requirements of Maine's new regulation?

Maine's Chapter 151 applies to any person who supplies, sells, offers for sale, or manufactures, any architectural coating for use within the State of Maine and to any person who applies, or solicits the application of, any architectural coating within the State of Maine. The rule includes VOC content limits for several categories of architectural coatings such as roof coatings, swimming pool coatings, and traffic marking coatings. Aerosol coating products, as well as architectural coatings sold in a container with a volume of one liter or less, are exempt from the regulation.

In addition, Chapter 151 includes the appropriate testing and recordkeeping requirements to ensure compliance with the specified performance standards. Specifically, the rule requires the use of EPA test methods and test procedures adopted by ASTM, South Coast AQMD, and Bay Area AQMD. The rule also allows the use of alternative test methods that have been approved by the Maine DEP and EPA. Finally, the rule requires compliance with the specified VOC content limits by January 1, 2006 (with one exception).¹ Coatings manufactured prior to January 1, 2006, however, may be sold, supplied, offered for sale, or applied after January 1, 2006, so long as the coating complied with the standards in effect at the time the coating was manufactured.

¹ The rule includes both a January 1, 2006 and a January 1, 2011 emission limit for varnishes.

C. Why is EPA proposing to approve this regulation?

EPA has evaluated Maine's Chapter 151 and has found that this regulation is generally consistent with EPA guidance and the Ozone Transport Commission (OTC) model rule for AIM coatings. The specific requirements of the regulation and EPA's evaluation of these requirements are detailed in a memorandum dated November 10, 2005, entitled “Technical Support Document—Maine—Architectural and Industrial Maintenance Coatings Regulation” (TSD). The TSD and Maine's Chapter 151 are available in the docket supporting this action.

The OTC has developed model rules for several VOC source categories, and the OTC states, including Maine, have signed a memorandum of understanding (MOU) committing to adopt these model rules. One of the categories for which a model rule has been developed is architectural coatings. (See “OTC Model Rule for Architectural and Industrial Maintenance Coatings,” issued March 28, 2001.)

Several other OTC states have also recently adopted an AIM coatings rule based on the OTC model rule, and EPA has already approved some of these states' rules.² The OTC model rule and Maine's rule include emission limits that are at least as stringent as, and in some cases more stringent than, EPA's AIM coatings rule.³

² For example, EPA approved Pennsylvania's AIM coatings rule on November 23, 2004 (69 FR 68080), and New York's AIM rule on December 13, 2004 (69 FR 72118).

³ See “National Volatile Organic Compound Emission Standards for Architectural Coatings,” 40 CFR Part 59, Subpart D.

It should be noted, however, that there are two cases where the emission limits in Maine's Chapter 151 differ from the limits in the OTC model rule. Specifically, the OTC rule includes a 350 g VOC per liter emission limit for varnishes. In contrast, Maine's rule includes two emission limits for varnishes: (1) a 450 g VOC per liter emission limit with a January 1, 2006 compliance date; and (2) a 350 g VOC per liter limit with a January 1, 2011 compliance date. Maine's emission limits are acceptable, however, because Maine's 2006 limit for varnishes is consistent with EPA's limit for varnishes. Also, the emission limits for stains in Maine's rule differ from those in the OTC model rule. The OTC rule includes a 250 g VOC per liter limit for stains. Maine's rule includes an emission limit of 550 g VOC per liter for interior wood clear and semitransparent stains and a 250 g VOC per liter limit for all other stains. Thus, Maine's rule is less stringent for interior wood clear and semitransparent stains than the OTC rule. Maine's 550 g VOC per liter limit is, however, acceptable since it is consistent with the limit for interior wood clear and semitransparent stains in EPA's rule.

EPA is aware that concerns have been raised about the achievability of VOC content limits of some of the product categories under the Maine AIM coatings rule. Although we are approving this rule today, the Agency is concerned that if the rule's limits make it impossible for manufacturers to produce coatings that are desirable to consumers, there is a possibility that users may misuse the products by adding additional solvent, thereby circumventing the rule's intended VOC emission reductions. We intend to work with Maine and manufacturers to explore ways to ensure that the rule achieves the intended VOC emission reductions, and we intend to address this issue in evaluating the amount of VOC emission reduction credit attributable to the rule. EPA has issued an advanced notice of proposed rulemaking to solicit comments, data, and information for determining the emission reductions achieved from architectural coating rules. (See 70 FR 51694; August 31, 2005.)

Maine did not submit its Chapter 151 SIP submittal to meet any specific control requirements under the Clean Air Act. However, subsequently, on June 9, 2005, Maine submitted its 5 percent increment of progress plan which relies on reductions from Chapter 151. In today's action, EPA is proposing to approve Chapter 151 because it will strengthen Maine's SIP, and we are not deciding what level of emissions reductions the rule will achieve. EPA will evaluate the reductions Maine is claiming from Chapter 151 in its 5 percent increment of progress plan when the Agency takes action on that plan.

D. What is the process for EPA to approve this SIP revision?

EPA is proposing to approve Maine's AIM coatings rule and is soliciting public comments on the issues discussed in this proposal or on other relevant matters. These comments will be considered before EPA takes final action. Interested parties may participate in the Federal rulemaking procedure by submitting written comments to the EPA New England Regional Office listed in the ADDRESSES section of this proposal, or by submitting comments electronically, by mail, or through hand delivery/courier following the directions in the SUPPLEMENTARY INFORMATION, I. General Information section of this proposal.

III. Proposed Action

EPA is proposing to approve Maine's Chapter 151, “Architectural and Industrial Maintenance (AIM) Coatings,” and to incorporate this regulation into the Maine SIP.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the National Government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.)

List of Subjects in 40 CFR Part 52

Environmental protection, Air pollution control, Ozone, Reporting and recordkeeping requirements, Volatile organic compounds.

Authority: 42 U.S.C. 7401 et seq.

Dated: December 5, 2005.
Robert W. Varney,
Regional Administrator, EPA New England.

[FR Doc. 05-24076 Filed 12-14-05; 8:45 am]

BILLING CODE 6560-50-P